DEPARTMENT OF TRANSPORTATION

Federal Highway Administration

Environmental Impact Statement: Lehigh and Norththampton Counties, Pennsylvania

AGENCY: Federal Highway Administration (FHWA), DOT.

ACTION: Notice of intent.

SUMMARY: The FHWA is issuing this notice to advise the public that an Environmental Impact Statement will be prepared for a proposed highway project in Lehigh and Northampton Counties, Pennsylvania.

FOR FURTHER INFORMATION CONTACT: David W. Cough, P.E., Operations Group Leader, Federal Highway Administration, Pennsylvania Division Office, 228 Walnut Street, Room 536, Harrisburg, PA 17101-1720, Telephone: (717) 221-3411 OR Donald Lerch, Assistant District Engineer, Pennsylvania Department of Transportation, District 5-0, 1713 Lehigh Street, Allentown, Pennsylvania, 18103, Telephone (610) 798-4131.

SUPPLEMENTARY INFORMATION: The FHWA, in cooperation with the Pennsylvania Department of Transportation (PennDOT), and the Lehigh Valley Planning Commission will prepare an Environmental Impact Statement (EIS) to identify and evaluate alternatives for improvements to the U.S. Route 22 corridor in Lehigh and Northampton Counties, Pennsylvania. The proposed action would consist of improvements along U.S. Route 22 between its interchanges with Interstate 78 to the west and S.R. 248 to the east, a distance of approximately 31 km (19 miles). Included in the overall project will be the identification of a range of alternatives that meet the identified project needs, and supporting environmental documentation and analysis to recommend a selected alternative for implementation. A complete public involvement program is included as part of the project.

Documentation of the need for the project is being prepared. This process will identify the need for roadway improvements through the study area based on local and regional transportation demand, system linkage and continuity, geometric criteria, safety and local and regional planning.

Alternatives that will be considered may include, but will not be limited to: No Build; transportation systems management (TSM) upgrade existing facility, construction on new alignment, upgrade of existing road network, mass transit, traffic control measures, (TCM), and travel demand management (TDM). These alternatives will be the basis for recommendation of alternatives to be carried forward for detailed environmental and engineering studies in the EIS.

Letters describing the proposed action and soliciting comments will be sent to appropriate federal, state and local agencies and to private organizations and citizens who express interest in this proposal. Public meetings will be held in the area throughout the study process. Public involvement and agency coordination will be maintained throughout the development of the EIS.

To ensure that the full range of issues related to the proposed action are addressed and all significant issues are identified, comments and suggestions are invited from all interested parties. Comments or questions concerning this proposed action and the EIS should be directed to FHWA or PennDOT at the address provided above.

(Catalog of Federal Domestic Assistance Program Number 20.205, Highway Planning and Construction. The regulations implementing Executive Order 12372 regarding intergovernmental consultation on Federal programs and activities apply to this program)
Issued on: April 25, 2000.
James A. Cheatham,
FHWA Division Administrator.

[FR Doc. 00-11413 Filed 5-5-00; 8:45 am]

BILLING CODE 4910-22-M